SURFACE TRANSPORTATION BOARD

[Docket No. AB 1275X]

Transkentucky Transportation Railroad Inc.—Discontinuance of Trackage Rights Exemption—in Mason County, Ky.

Transkentucky Transportation Railroad Inc. (TTI),¹ a Class III rail carrier, has filed a verified notice of exemption under 49 CFR pt. 1152 subpart F—Exempt Abandonments and Discontinuances of Service to discontinue approximately 13.1 miles of trackage rights over CSXT's Cincinnati Subdivision between milepost CA 595.6, near Springdale, and milepost CA 608.7, near Charleston Bottoms, in Mason County, Ky. (the Line).² There is one station on the Line at Maysville, Ky. (FSAC 70). The Line traverses U.S. Postal Service Zip Code 41056.

¹ TTI is a wholly owned subsidiary of CSX Transportation, Inc. (CSXT).

² Transkentucky Transp. R.R.—Trackage Rights Exemption—CSX Transp., Inc., FD 31595 (STB served Feb. 9, 1990).

TTI has certified that: (1) No traffic has moved over the Line for at least two years; (2) any overhead traffic can be rerouted over other lines; (3) no formal complaint filed by a user of rail service on the Line (or by a state or local government entity acting on behalf of such user) regarding cessation of service on the Line is pending either with the Surface Transportation Board (Board) or with any U.S. District Court or has been decided in favor of complainant within the two-year period; and (4) the requirements at 49 CFR 1105.12 (newspaper publication) and 49 CFR 1152.50(d)(1) (notice to governmental agencies) have been met.

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ³ to subsidize continued rail service has been received, this exemption will be effective on June 8, 2019, unless stayed pending reconsideration. Petitions to stay that do not involve environmental issues must be filed by May 17, 2019, and formal expressions of intent to file an OFA to subsidize continued rail service under 49 CFR 1152.27(c)(2) ⁴ must be filed by May 20, 2019.⁵ Petitions to reopen must be filed by May 29, 2019, with the Surface Transportation Board, 395 E Street SW, Washington, DC 20423-0001.

³ Persons interested in submitting an OFA to subsidize continued rail service must first file a formal expression of intent to file an offer indicating the intent to file an OFA for subsidy and demonstrating that they are preliminarily financially responsible. See 49 CFR 1152.27(c)(2)(i).

⁴ The filing fee for OFAs can be found at 49 CFR 1002.2(f)(25).

⁵ Because this is a discontinue proceeding and not an abandonment, interim trail use/rail banking and public use conditions are not appropriate. Because there will be an environmental review during abandonment, this discontinuance does not require an environmental review.

A copy of any petition filed with the Board should be sent to TTI's representative, Louis E. Gitomer, Law Offices of Louis E. Gitomer, LLC, 600 Baltimore Ave., Suite 301, Towson, MD 21204.

If the verified notice contains false or misleading information, the exemption is void ab initio.

Board decisions and notices are available at www.stb.gov.

Decided: May 3, 2019.
By the Board, Allison C. Davis, Acting Director, Office of Proceedings.
Jeffrey Herzig,
Clearance Clerk.

[FR Doc. 2019-09537 Filed 5-8-19; 8:45 am]

BILLING CODE 4915-01-P